DEPARTMENT OF THE INTERIOR

Fish and Wildlife Service

[FWS-R2-ES-2009-N128; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before August 7, 2009.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-797127

Applicant: U.S. Army Corps of Engineers, Albuquerque, New Mexico. Applicant requests an amendment to a current permit for research and recovery purposes to conduct presence/absence surveys for black-footed ferrets (Mustela nigripes) within New Mexico and Colorado.

Permit TE-821356

Applicant: U.S. Geological Survey Grand Canyon Monitoring and Research Center, Flagstaff, Arizona. Applicant requests an amendment to a current permit for research and recovery purposes to conduct presence/absence surveys for humpback chub (Gila cypha), bonytail chub (Gila elegans), Colorado pikeminnow (Ptychocheilus lucius), and razorback sucker (Xyrauchen texanus) within the Colorado River in Grand Canyon, Arizona, and Cataract Canyon, Utah.

Permit TE-216075

Applicant: Martin Heaney, Rosenberg, Texas. Applicant requests a new permit for research and recovery purposes to conduct presence/absence surveys of the following species: Whooping crane (Grus americana), golden-checked warbler (Dendroica chrysoparia), red-cockaded woodpecker (Picoides borealis), interior least tern (Sterna antillarum), Barton Springs salamander (Eurycea sosorum), Houston toad (Bufo houstonensis), Texas blind salamander (Typholomolge rathbuni), fountain darter (Etheostoma fonticola), San Marcos gambusia (Gambusia gorgei), Peck's Cave amphipod (Stygobromus pecki), Comal Springs dryopid beetle (Stygoparnus comalensis), Comal Springs riffle beetle (Heterlmis comalensis), ground beetle (Rhadine exilis), ground beetle (Rhadine infernalis), Helotes mold beetle (Batrisodes venyivi), Cokendolpher Cave harvestman (Texella cockendolpheri), Robber Baron Cave meshweaver (Cicurina baronia), Madla Cave meshweaver (Circurina madla), Braken Bat Cave meshweaver (Circurina venii), Government Canyon Bat Cave meshweaver (Cicurina vespera), Government Canyon Bat Cave spider (Neoleptoneta microps), Tooth Cave spider (Leptoneta myopica), Bee Creek Cave harvestman (Texella reddelli), Bone Cave harvestman (Texella reyesi), Kretschmarr Cave mold beetle (Batrisodes texanus), and Tooth Cave pseudoscorpion (Tartarocreagris texana) within Texas, Oklahoma, New Mexico, Louisiana, and Mississippi.

Permit TE-217655

Applicant: Rachel Barlow, Austin, Texas. Applicant requests a new permit for research and recovery purposes to conduct presence/absence surveys of the following species: Ground beetle (Rhadine exilis), ground beetle (Rhadine infernalis), Helotes mold beetle (Batrisodes venyivi), Cokendolpher Cave harvestman (Texella cockendolpheri), Robber Baron Cave meshweaver (Cicurina baronia), Madla Cave meshweaver (Circurina madla), Braken Bat Cave meshweaver (Circurina venii), Government Canyon Bat Cave meshweaver (Cicurina vespera), Government Canyon Bat Cave spider (Neoleptoneta microps), Tooth Cave spider (Leptoneta myopica), Bee Creek Cave harvestman (Texella reddelli), Bone Cave harvestman (Texella reyesi), Kretschmarr Cave mold beetle (Batrisodes texanus), Tooth Cave pseudoscorpion (Tartarocreagris texana), Tooth Cave spider (Neolptoneta myopica), Tooth Cave ground beetle (Rhadine persephone), and Coffin Cave mold beetle (Batrisodes texanus) within Texas

Authority: 16 U.S.C. 1531 et seq.

Dated: June 19, 2009.
Brian A. Millsap,
Acting Regional Director, Southwest Region, Fish and Wildlife Service.

[FR Doc. E9-16137 Filed 7-7-09; 8:45 am]

BILLING CODE 4310-55-P